DEPARTMENT OF EDUCATION

[CFDA No.: 84.120A]

Minority Science and Engineering Improvement Program

AGENCY: Office of Postsecondary Education, Department of Education.

ACTION: Notice of intent to fund down the grant slate for the Minority Science and Engineering Improvement Program.

SUMMARY: The Secretary intends to use the grant slate developed for the Minority Science and Engineering Improvement Program in Fiscal Year (FY) 2006 to make new grant awards in FY 2007. The Secretary takes this action because a significant number of high-quality applications remain on last year's slate, and limited funding is available for new grant awards in FY 2007.

FOR FURTHER INFORMATION CONTACT: Dr. Bernadette Hence, U.S. Department of Education, 1990 K Street, NW., 6th Floor, room 6071, Washington, DC 20006-8513. Telephone: (202) 219-7038, by fax (202) 502-7861 or e-mail: Bernadette.Hence@ed.gov.

If you use a telecommunications device for the deaf (TDD), you may call the Federal Relay Service (FRS) at 1-800-877-8339.

Individuals with disabilities may obtain this document in an alternative format (e.g., Braille, large print, audiotape, or computer diskette) upon request to the contact person listed under FOR FURTHER INFORMATION CONTACT.

SUPPLEMENTARY INFORMATION:

Background

On June 7, 2006, we published a notice in the Federal Register (71 FR 32934) inviting applications for new awards under the Minority Science and Engineering Improvement Program.

We received a significant number of applications for grants under the Minority Science and Engineering Improvement Program in FY 2006 and funded 23 new grants. Because such a large number of high-quality applications were received, many applications that were awarded high scores by peer reviewers did not receive funding in FY 2006.

The Administration included funds for this program in the President's Budget for FY 2007, but Congress has not enacted a final appropriation for FY 2007. However, based on Congressional action to date, the Department expects only to have limited funding available for new awards under this program in FY 2007. In order to conserve funding that would have been required for a peer review of new applications submitted under the program, we intend to select grantees in FY 2007 from the existing slate of applicants. This slate was developed during the FY 2006 competition using the competitive preference priorities, invitational priorities, selection criteria, and requirements referenced in the June 7, 2006 notice. No changes to the competitive preference priorities, invitational priorities, selection criteria, and requirements will be required by this action.

Electronic Access to This Document

You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: www.gpoaccess.gov/nara/index.html.

Program Authority: 20 U.S.C. 1067-1067k

Dated: February 7, 2007.
James F. Manning,
Delegated the Authority of Assistant Secretary for Postsecondary Education.

[FR Doc. E7-2364 Filed 2-9-07; 8:45 am]

BILLING CODE 4000-01-P